DEPARTMENT OF HOMELAND SECURITY

Office of the Secretary

[Docket No. DHS-2006-0003]

Notice of Meeting of National Infrastructure Advisory Council (NIAC)

AGENCY: Directorate for Preparedness, DHS.

ACTION: Notice of meeting.

SUMMARY: The National Infrastructure Advisory Council (NIAC) will meet in open session.

DATES: Monday, February 13, 2006, from 1:30 p.m. to 4:30 p.m.

ADDRESSES: The National Press Club Ballroom, 529 14th Street, NW., Washington, DC 20045. You may submit comments, identified by DHS-2006-0003, by one of the following methods:

• Federal eRulemaking Portal: http://www.regulations.gov. Follow the instructions for submitting comments.

• E-mail: gail.kaufman@associates.dhs.gov. When submitting comments electronically, please include by DHS-2006-0003, in the subject line of the message.

• Mail: Jenny Menna, Department of Homeland Security, Directorate for Preparedness, Washington, DC 20528. To ensure proper handling, please reference by DHS-2006-0003, on your correspondence. This mailing address may be used for paper, disk or CD-ROM submissions.

• Hand Delivery/Courier: Jenny Menna, Department of Homeland Security, Directorate for Preparedness, Washington, DC 20528. Contact Telephone Number 703-235-5316.

Instructions: All submissions received must include the words “Department of Homeland Security” and DHS-2006-0003, the docket number for this action. Comments received will be posted without alteration at http://www.regulations.gov, including any personal information provided.

Docket: For access to the docket to read background documents or comments received, go to http://www.regulations.gov.

FOR FURTHER INFORMATION CONTACT: Jenny Menna, NIAC Designated Federal Officer, Department of Homeland Security, Washington, DC 20528; telephone 703-235-5316.

SUPPLEMENTARY INFORMATION: Notice of this meeting is given under the Federal Advisory Committee Act (FACA), Public Law 92-463, as amended (5 U.S.C. App.1 et seq.). At this meeting, the NIAC will be briefed on the status of several Working Group activities in which the Council is currently engaged.

Dated: January 9, 2006.
Jenny Menna,
Designated Federal Officer for the NIAC.

Draft Agenda of February 13, 2006 Meeting

I. Opening of Meeting

Jenny Menna, Department of Homeland Security (DHS) / Designated Federal Officer, NIAC

II. Roll Call of Members

Jenny Menna

III. Opening Remarks and Introductions

NIAC Chairman, Erle A. Nye, Chairman Emeritus, TXU Corp.

NIAC Vice Chairman, John T. Chambers, Chairman and CEO, Cisco Systems, Inc.

Michael Chertoff, Secretary, Department of Homeland Security (Invited)

George W. Foresman, Under Secretary, Preparedness Directorate

Frances Fragos Townsend, Assistant to the President for Homeland Security and Counterterrorism (Invited)

Kirstjen Nielsen, Special Assistant to the President and Senior Director of Prevention, Preparedness and Response, Homeland Security Council (Invited)

IV. National Infrastructure Protection Plan Status Update

Robert B. Stephan, Assistant Secretary, Office of Infrastructure Protection

V. Approval of October Minutes

NIAC Chairman Erle A. Nye

VI. Final Reports and Deliberations

NIAC Chairman Erle A. Nye Presiding

A. Intelligence Coordination

NIAC Vice Chairman John T. Chambers, Chairman & CEO, Cisco Systems, Inc. and Gilbert Gallegos, Chief of Police (ret.), Albuquerque, New Mexico Police Department, NIAC Member

B. Deliberation and Approval of Recommendations of Final Report

NIAC Members

VII. Status Reports on Current Working Group Initiatives

NIAC Chairman Erle A. Nye Presiding

A. Workforce Preparation, Education and Research

Alfred R. Berkeley III, Chairman & CEO, Pipeline Trading, LLC., NIAC Member Dr. Linwood Rose, President, James Madison University, NIAC Member

B. Biological, Chemical and Radiological Terror and the Critical Infrastructure Workforce

Chief Rebecca K. Denlinger, Fire Chief, Cobb County, Georgia Fire and Emergency Services, NIAC Member, Martha H. Marsh, Chairman and CEO, Stanford Hospital and Clinics, NIAC Member and Bruce Rohde, Chairman and CEO Emeritus, ConAgra Foods, Inc.

C. Convergence of Physical and Cyber Technologies and Related Security Management Challenges

George Conrades, Executive Chairman, Akamai Technologies, NIAC Member, Margaret Grayson, President, AEP Government Solutions Group, NIAC Member, and Gregory A. Peters, Former President and CEO, Internap Network Services Corporation, NIAC Member.

VIII. New Business

NIAC Chairman Erle A. Nye, NIAC Members TBD

A. Status Report on Implementation of Recommendations

Nancy J. Wong, Department of Homeland Security (DHS) / Designated Federal Officer, NIAC

IX. Adjournment

NIAC Chairman Erle A. Nye 2

[FR Doc. E6-851 Filed 1-24-06; 8:45 am]

BILLING CODE 4410-10-P